FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant

Jeepney Express Padala, Inc. dba Jeepney Express; Kalesa Express; Victory Cargo, 2647 West Woodland Drive, Anaheim, CA 92801. Officers: Edna Cabal Quinto, Treasurer (Qualifying Individual), Gregorio Sycip, President.

Non-Vessel Operating Common Carrier and Ocean Freight Forwarder Transportation Intermediary Applicant

One Arrow, LLC, 12900 Griffing Blvd., Miami, FL 33161. Officer: Emmanuel Nwankwo, President (Qualifying Individual).

Ocean Freight Forwarder—Ocean Transportation Intermediary Applicant

Victoria Shipping, 104 Bald Knob Road, Wetumpka, AL 36092. Susan V. Hagan, Sole Proprietor.

Dated: August 24, 2007.
Karen V. Gregory,
Assistant Secretary.

[FR Doc. E7-17128 Filed 8-28-07; 8:45 am]

BILLING CODE 6730-01-P